DEPARTMENT OF EDUCATION

[Docket No.: ED-2024-SCC-0054]

Agency Information Collection Activities; Submission to the Office of Management and Budget for Review and Approval; Comment Request; Reaffirmation Agreement

AGENCY: Federal Student Aid (FSA), Department of Education (ED).

ACTION: Notice.

SUMMARY: In accordance with the Paperwork Reduction Act (PRA) of 1995, the Department is proposing an extension without change of a currently approved information collection request (ICR).

DATES: Interested persons are invited to submit comments on or before July 11, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, 202-570-8414.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Reaffirmation Agreement.

OMB Control Number: 1845-0133.

Type of Review: An extension without change of a currently approved ICR.

Respondents/Affected Public: Individuals and Households; Private Sector; State, Local, and Tribal Governments.

Total Estimated Number of Annual Responses: 8,594.

Total Estimated Number of Annual Burden Hours: 1,032.

Abstract: The Higher Education Act of 1965, as amended (HEA), established the Federal Family Education Loan (FFEL) Program, and the William D. Ford Federal Direct Loan (Direct Loan) Program under Title IV, Parts B and D respectively. The HEA provides for a maximum loan amount that a borrower can receive per year and in total. If a borrower receives more than the maximum amount, the borrower becomes ineligible for further Title IV aid (including Federal Pell Grants, Federal Supplemental Educational Opportunity Grants, Federal Work-Study, and Teacher Education Assistance for Higher Education (TEACH) Grants, Iraq and Afghanistan Service Grants) unless the borrower repays the excess amount or agrees to repay the excess amount according to the terms and conditions of the promissory note that the borrower signed. Agreeing to repay the excess amount according to the terms and conditions of the promissory note that the borrower signed is called reaffirmation, which is the subject of this collection. This renewal without change of the information collection is necessary for the Department of Education (the Department), as a holder of some FFEL Program loans and all Direct Loans, and all FFEL Program lenders to capture the borrowers formal agreement to repay any excess amount of FFEL or Direct Loan program loans that the borrower received according to the terms and conditions of the promissory note the borrower signed. The form has not been changed since its last update.

Dated: June 5, 2024.
Kun Mullan,
PRA Coordinator, Strategic Collections and Clearance, Governance and Strategy Division, Office of Chief Data Officer, Office of Planning, Evaluation and Policy Development.

[FR Doc. 2024-12671 Filed 6-10-24; 8:45 am]

BILLING CODE 4000-01-P